COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before December 19, 2014.

ADDRESSES: Comments may be submitted to OMB within 30 days of the notice's publication. Comments, identified by “Large Trader Reporting for Physical Commodity Swaps” (OMB Control No. 3038-0095), can be submitted by email at OIRAsubmissions@omb.eop.gov. Please provide the Commission with a copy of all submitted comments at the address listed below. Please refer to OMB Reference No. 3038-0095, found on http://reginfo.gov. Comments may also be mailed to the Office of Information and Regulatory Affairs, Office of Management and Budget, Attention: Desk Officer for the Commodity Futures Trading Commission, 725 17th Street NW., Washington, DC 20503, and Dana Brown, Division of Market Oversight, Commodity Futures Trading Commission, 1155 21st Street NW., Washington, DC 20581.

Comments may also be submitted, regarding the burden estimated or any other aspect of the information collection, including suggestions for reducing the burden, identified by “Large Trader Reporting for Physical Commodity Swaps” (OMB Control No. 3038-0095), by any of the following methods:

• Agency Web site, via its Comments Online process: http://comments.cftc.gov. Follow the instructions for submitting comments through the Web site.

• Mail: Send to Christopher Kirkpatrick, Secretary of the Commission, Commodity Futures Trading Commission, 1155 21st Street NW., Washington, DC 20581.

• Hand Delivery/Courier: Same as Mail, above.

• Federal eRulemaking Portal: http://www.regulations.gov. Follow the instructions for submitting comments.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in § 145.9 of the Commission's regulations.¹

¹ Commission regulations referred to herein are found at 17 CFR Ch. 1 (2014).

The Commission reserves the right, but shall have no obligation, to review, pre-screen, filter, redact, refuse or remove any or all of your submission from www.cftc.gov that it may deem to be inappropriate for publication, such as obscene language. All submissions that have been redacted or removed that contain comments on the merits of this matter will be retained in the public comment file and will be considered as required under the Administrative Procedure Act and other applicable laws, and may be accessible under the Freedom of Information Act.

FOR FURTHER INFORMATION CONTACT: Dana Brown, Division of Market Oversight, Commodity Futures Trading Commission, (202) 418-5093; email: dbrown@cftc.gov. This contact can also provide a copy of the ICR.

SUPPLEMENTARY INFORMATION:

Title: “Large Trader Reporting for Physical Commodity Swaps,” OMB Control No. 3038-0095—Extension. This is a request for extension of a currently approved information collection.

Abstract: This collection is in the public interest and is necessary for market surveillance. Part 20 of the Commission's regulations requires clearing organizations and any persons that are “reporting entities” to file swaps position data with the Commission. The Reporting Rules collect clearing member reports from clearing organizations. The Reporting Rules also require position reports from reporting entities for principal and counterparty positions in cleared and uncleared physical commodity swaps. Reporting entities are those persons that are either “clearing members” or “swap dealers” that are otherwise not clearing members. For purposes of Part 20, reporting parties are required to submit data on positions on a futures equivalent basis so as to allow the Commission to assess a trader's market impact across differently structured but linked derivatives instruments and markets. The Commission initially estimated that approximately 705 entities would be affected by this rule. This number was based on the then estimated number of reporting firms. Because the Commission had not regulated the swap market, it has not previously collected data to support its estimate. Accordingly, the initial estimate of 705 affected entities has been revised to 3,998. The Federal Register notice with a 60-day comment period soliciting comments on this collection of information was published on September 17, 2014 (79 FR 55759).

Burden Statement: The Commission estimates the burden of this collection of information as follows:

Estimated Annual Reporting Burden
17 CFR § | Annual number of respondents | Total annual responses | Hours per response | Total hours
20 | 3,998 | 3,998 | 1.58 | 6,317

Authority: 44 U.S.C. 3501 et seq.

Dated: November 14, 2014.
Christopher J. Kirkpatrick,
Secretary of the Commission.

[FR Doc. 2014-27402 Filed 11-18-14; 8:45 am]

BILLING CODE 6351-01-P